DEPARTMENT OF TRANSPORTATION

Federal Highway Administration

Notice To Rescind Notice of Intent To Prepare an Environmental Impact Statement: Lawrence, Christian, and Greene Counties, MI

AGENCY: Federal Highway Administration (FHWA), DOT and the Missouri Department of Transportation.

ACTION: Rescind Notice of Intent to prepare an environmental impact statement.

SUMMARY: The FHWA is issuing this notice to advise the public that we are rescinding the Notice of Intent (NOI) to prepare an environmental impact statement (EIS) for improvements that were proposed to the transportation system in Lawrence, Christian, and Greene Counties, Missouri.

FOR FURTHER INFORMATION CONTACT: Peggy J. Casey, Environmental Projects Team Leader, FHWA Division Office, 3220 West Edgewood, Suite H, Jefferson City, Missouri 65109, Telephone: (573) 638-2620 or Kathy Harvey, State Design Engineer, Missouri Department of Transportation, P.O. Box 270, Jefferson City, Missouri 65102, Telephone: (573) 526-5678.

SUPPLEMENTARY INFORMATION: The FHWA, in cooperation with the Missouri Department of Transportation (MoDOT), is rescinding the NOI to prepare an EIS for a project that had been proposed to improve the transportation system in Lawrence, Christian and Greene Counties, Missouri. The NOI is being rescinded because MoDOT lacks funding to build this project. They do not want to concentrate their efforts on completing an EIS for a project which may not be built for 20 years.

(Catalog of Federal Domestic Assistance Program Number 20.205, Highway Planning and Construction. The regulations implementing Executive Order 12372 regarding intergovernmental consultation on Federal programs and activities apply to this program.)

Issued on: January 15, 2009.
Peggy J. Casey,
Environmental Projects Team Leader, Jefferson City.

[FR Doc. E9-1420 Filed 1-22-09; 8:45 am]

BILLING CODE 4910-22-P